DEPARTMENT OF LABOR

Employment and Training Administration

[TA-W-40,467]

Gold Seam, Passaic, New Jersey; Notice of Termination of Investigation

Pursuant to Section 221 of the Trade Act of 1974, an investigation was initiated on December 21, 2001, in response to a worker petition that was filed on behalf of workers at Gold Seam, Passaic, New Jersey.

The Department was unable to locate an official of the company to obtain the information necessary to issue a determination (TA-W-40,467). Consequently, further investigation in this case would serve no purpose, and the investigation has been terminated.

Signed in Washington, DC this 21st day of March, 2002.
Linda G. Poole,
Certifying Officer, Division of Trade Adjustment Assistance.

[FR Doc. 02-7598 Filed 3-28-02; 8:45 am]

BILLING CODE 4510-30-M